DEPARTMENT OF THE INTERIOR

National Park Service

General Management Plan, Environmental Impact Statement, Petrified Forest National Park, Arizona

AGENCY: National Park Service, Department of the Interior.

ACTION: Notice of Intent to prepare an Environmental Impact Statement for a General Management Plan amendment, Petrified Forest National Park.

SUMMARY: Under the provisions of the National Environmental Policy Act of 1969, 42 U.S.C. 4332(2)(C), the National Park Service is preparing an Environmental Impact Statement (EIS) for a General Management Plan (GMP) amendment for Petrified Forest National Park.

The park is currently managed under a GMP that was completed in 1993. This plan describes a proposed boundary expansion for the park of approximately 93,000 acres. However, the 1993 GMP does not prescribe management for the proposed expansion lands. The GMP was revised in 2004 to address specific aspects of the park's management; this GMP Revision also does not address management activities for proposed expansion lands.

Public Law 108-430 was passed by congress and signed by the President in December 2004. This Act expanded Petrified Forest National Park boundaries by approximately 125,000 acres, and directed the NPS to prepare a management plan for the new park lands within three years. Planning for the new lands is the focus of this GMP amendment and its associated EIS.

The GMP amendment will establish the overall direction for park expansion lands, setting broad management goals for the area for the next 15 to 20 years. Among the topics that will be addressed are protection of natural and cultural resources, protection of riparian resources, appropriate range of visitor uses, impacts of visitor uses, adequacy of park infrastructure, visitor access to the park expansion area, education and interpretive efforts, and external pressures on the park. Management zones that were established in the current GMP will be applied to expansion lands. These zones outline the kinds of resource management activities, visitor activities, and developments that would be appropriate in the expansion lands.

A range of reasonable alternatives for managing the park, including a no-action alternative and a preferred alternative, will be developed through the planning process and included in the EIS. The EIS will evaluate the potential environmental impacts of the alternatives.

As the first phase of the planning and EIS process, the National Park Service is beginning to scope the issues to be addressed in the GMP amendment. All interested persons, organizations, and agencies are encouraged to submit comments and suggestions regarding the issues or concerns the GMP amendment should address, including a suitable range of alternatives and appropriate mitigating measures, and the nature and extent of potential environmental impacts.

DATES: Written comments on the scope of the GMP amendment/EIS will be accepted for 60 days beyond the publication of this Notice of Intent. In addition, a public scoping session will be held in Holbrook, Arizona in the fall of 2007. The location, date, and time of this meeting will be provided in local and regional newspapers, and on the Internet at http://www.nps.gov/pefo.

ADDRESSES: Written comments or requests to be added to the project mailing list should be directed to: Brad Traver, Acting Superintendent, Petrified Forest National Park, P.O. Box 2217, Petrified Forest, AZ 86028; telephone (928) 524-6228; e-mail: http://parkplanning/nps.gov/pefo.

FOR FURTHER INFORMATION CONTACT: Brad Traver, Acting Superintendent, Petrified Forest National Park, P.O. Box 2217, Petrified Forest, AZ 86028; telephone (928) 524-6228. General information about Petrified Forest National Park is available on the Internet at http://www.nps.gov/pefo.

SUPPLEMENTARY INFORMATION: Please submit Internet comments as a text file, avoiding the use of special characters and any form of encryption.

Before including your address, phone number, e-mail address, or other personal identifying information in your comment, you should be aware that your entire comment—including your personal identifying information—may be made publicly available at any time. While you can ask us in your comment to withhold your personal identifying information from public review, we cannot guarantee that we will be able to do so.

Dated: July 13, 2007.
Michael D. Snyder,
Director, Intermountain Region, National Park Service.

[FR Doc. 07-3877 Filed 8-16-07; 8:45 am]

BILLING CODE 4310-7U-M